DEPARTMENT OF VETERANS AFFAIRS

[OMB Control No. 2900-0773]

Proposed Information Collection (Veterans Health Benefits Handbook Satisfaction Survey) Activity: Comment Request

AGENCY: Veterans Health Administration, VA.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on eligibility and benefits information contained in Veterans Health Benefits handbook.

DATES: Written comments and recommendations on the proposed collection of information should be received on or before June 9, 2014.

ADDRESSES: Submit written comments on the collection of information through the Federal Docket Management System (FDMS) at www.Regulations.gov; or to Audrey Revere, Veterans Health Administration (10B4), Department of Veterans Affairs, 810 Vermont Avenue NW., Washington, DC 20420 or email: audrey.revere@va.gov. Please refer to “2900-0773 (VA Form 10-0507)” in any correspondence. During the comment period, comments may be viewed online through FDMS.

FOR FURTHER INFORMATION CONTACT: Audrey Revere (202) 461-6050 or FAX (202) 273-9395.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Veterans Health Benefits Handbook Satisfaction Survey, VA Form 10-0507.

OMB Control Number: 2900-0773.

Type of Review: Revision of a currently approved collection.

Abstract: VA Form 10-0507 will be used to request feedback from veterans on the content and presentation material contained in the Veterans Health Benefits Handbook. VA will use the data collected to determine how well the handbook meets Veterans' individual needs.

Affected Public: Individuals and Households.

Estimated Annual Burden: 135 hours.

Estimated Average Burden per Respondent: 5 minutes.

Frequency of Response: Annually.

Estimated Number of Respondents: 1,060.

Dated: April 2, 2014.
By direction of the Secretary.
Crystal Rennie,
Department Clearance Officer, Department of Veterans Affairs.

[FR Doc. 2014-07674 Filed 4-7-14; 8:45 am]

BILLING CODE 8320-01-P